DEPARTMENT OF AGRICULTURE

National Agricultural Statistics Service

Notice of Intent To Seek Approval To Reinstate an Information Collection

AGENCY: National Agricultural Statistics Service, USDA.

ACTION: Notice and request for comments.

SUMMARY: In accordance with the Paperwork Reduction Act of 1995, this notice announces the intention of the National Agricultural Statistics Service (NASS) to seek reinstatement of an information collection, the 2022 Census of Agriculture.

DATES: Comments on this notice must be received by June 11, 2021 to be assured of consideration.

ADDRESSES: You may submit comments, identified by docket number 0535-0226, by any of the following methods:

• Email: ombofficer@nass.usda.gov. Include docket number above in the subject line of the message.

• E-fax: (855) 838-6382.

• Mail: Mail any paper, disk, or CD-ROM submissions to: David Hancock, NASS Clearance Officer, U.S. Department of Agriculture, Room 5336 South Building, 1400 Independence Avenue SW, Washington, DC 20250-2024.

• Hand Delivery/Courier: Hand deliver to: David Hancock, NASS Clearance Officer, U.S. Department of Agriculture, Room 5336 South Building, 1400 Independence Avenue SW, Washington, DC 20250-2024.

FOR FURTHER INFORMATION CONTACT: Kevin L. Barnes, Associate Administrator, National Agricultural Statistics Service, U.S. Department of Agriculture, (202)720-2707. Copies of this information collection and related instructions can be obtained without charge from David Hancock, NASS—OMB Clearance Officer, at (202)690-2388 or at ombofficer@nass.usda.gov.

SUPPLEMENTARY INFORMATION: In the Federal Register of March 8, 2021, FR Doc. 2021-04701, on page 13280, in the second column, under Supplementary Information, should read as follows:

Estimated Number of Respondents: 4,700,000.

Estimated Total Annual Burden on Respondents: 3,100,000 hours.

Signed at Washington, DC, April 6, 2021.
Yvette Anderson,
Federal Register Liaison Officer for ARS, ERS, NASS.

[FR Doc. 2021-07404 Filed 4-9-21; 8:45 am]

BILLING CODE 3410-20-P